DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Five Year Records Retention Period.

Agency Form Number: None.

OMB Approval Number: 0694-0096.

Type of Request: Extension of a currently approved collection of information.

Burden: 253 hours.

Average Time Per Response: 0.01 second to 1.01 minute per response.

Number of Respondents: 201,437 respondents.

Needs and Uses: The five year records retention requirement enables BIS to detect violations from records up to five years old to correspond with the five year statute of limitations and prove that a violation did or did not take place. The documents can also provide exculpatory evidence for firms who have been accused of export control violations and are innocent.

Affected Public: Individuals, businesses or other for-profit institutions.

Respondent's Obligation: Required to obtain or retain benefits.

OMB Desk Officer: David Rostker.

Copies of the above information collection proposal can be obtained by calling or writing Diana Hynek, DOC Paperwork Clearance Officer, (202) 482-3129, Department of Commerce, Room 6625, 14th and Constitution Avenue, NW., Washington, DC 20230 or via internet at dHynek@doc.gov.

Written comments and recommendations for the proposed information collection should be sent within 30 days of publication of this notice to David Rostker, OMB Desk Officer, Room 10202, New Executive Office Building, Washington, DC 20230.

Dated: August 6, 2004.
Madeleine Clayton,
Management Analyst, Office of the Chief Information Officer.

[FR Doc. 04-18391 Filed 8-10-04; 8:45 am]

BILLING CODE 3510-DT-P